DEPARTMENT OF HEALTH AND HUMAN SERVICES

Substance Abuse and Mental Health Services Administration

Suspension of a Laboratory Which No Longer Meets Minimum Standards To Engage in Urine Drug Testing for Federal Agencies

AGENCY: Substance Abuse and Mental Health Services Administration, HHS.

ACTION: Notice.

SUMMARY: The Department of Health and Human Services routinely publishes a list of laboratories in the Federal Register that are currently certified to meet standards of Subpart C of the Mandatory Guidelines for Federal Workplace Drug Testing Programs (69 FR 19644) dated April 13, 2004. This notice informs the public that effective November 15, 2005, the following laboratory's certification is suspended: Sciteck Clinical Laboratories, Inc., 317 Rutledge Rd., Fletcher, NC 28732.

FOR FURTHER INFORMATION CONTACT: Donna M. Bush, PhD, Division of Workplace Programs, CSAP, One Choke Cherry Road, Room 2-1033, Rockville, Maryland 20857, 240-276-2600 (voice), 240-276-2610 (fax)

Anna Marsh,
Director, Office Program Services, SAMHSA.

[FR Doc. 05-23825 Filed 12-7-05; 8:45 am]

BILLING CODE 4160-20-P